DEPARTMENT OF HEALTH AND HUMAN SERVICES

National Institutes of Health

National Institute of Child Health and Human Development; Notice of Closed Meeting

Notice is hereby given of a change in the meeting of the National Institute of Child Health and Human Development Special Emphasis Panel, April 5, 2002, 8 a.m. to April 5, 2002, 5 p.m., Hyatt Hotel, One Bethesda Metro Center, Bethesda, MD 20814 which was published in the Federal Register on February 19, 2002, 67 FR 7385.

The meeting will be at the Holiday Inn Chevy Chase, 5520 Wisconsin Avenue, Chevy Chase, Maryland. The meeting is closed to the public.

Dated: March 8, 2002.
LaVerne Y. Stringfield,
Director, Office of Federal Advisory Committee Policy.

[FR Doc. 02-6401 Filed 3-15-02; 8:45 am]

BILLING CODE 4140-01-M